INTERNATIONAL TRADE COMMISSION

[USITC SE-09-028]

Government In the Sunshine Act Meeting Notice

Agency Holding the Meeting: United States International Trade Commission.

Time and Date: October 30, 2009 at 11 a.m.

Place: Room 101, 500 E Street SW., Washington, DC 20436, Telephone: (202) 205-2000.

Status: Open to the public.

Matters to be Considered: 1. Agenda for future meetings: none.

2. Minutes.

3. Ratification List.

4. Inv. Nos. 701-TA-469 and 731-TA-1168 (Preliminary) (Certain Seamless Carbon and Alloy Steel Standard, Line, and Pressure Pipe from China)—briefing and vote. (The Commission is currently scheduled to transmit its determinations to the Secretary of Commerce on or before November 2, 2009; Commissioners' opinions are currently scheduled to be transmitted to the Secretary of Commerce on or before November 9, 2009.)

5. Outstanding action jackets: none.

In accordance with Commission policy, subject matter listed above, not disposed of at the scheduled meeting, may be carried over to the agenda of the following meeting.

By order of the Commission:
Issued: October 20, 2009.
William R. Bishop,
Hearings and Meetings Coordinator.

[FR Doc. E9-25566 Filed 10-20-09; 4:15 pm]

BILLING CODE 7020-02-P